DEPARTMENT OF AGRICULTURE

Forest Service

North Mt. Baker-Snoqualmie Resource Advisory Committee; Meetings

AGENCY: Forest Service, USDA.

ACTION: Notice of meetings.

SUMMARY: The North Mt. Baker-Snoqualmie Resource Advisory Committee (RAC) will meet twice during the month of February 2002. The first meeting is scheduled for Wednesday, February 6, 2002, at the Skagit County Hearing Room B, 700 South 2nd St., in Mt. Vernon, WA 98273. The second meeting is scheduled for Thursday, February 21, 2002, at the Whatcom County Courthouse, Multipurpose Room, 311 Grand Ave., in Bellingham, WA 98225.

The February 6 meeting will begin at 9:30 a.m. and continue until about 3:30 p.m. Agenda items to be covered include: (1) Background on the Secure Rural Schools and Community Self-Determination Act of 2000, (2) Organization of the North Mt. Baker-Snoqualmie Resource Advisory Committee, and (3) Future program of work for the North Mt. Baker-Snoqualmie Resource Advisory Committee.

The February 21, 2002 meeting will begin at 9:30 a.m. and continue until about 3:30 p.m. The topics to be covered at the meeting include the process for reviewing and recommending projects and beginning the review of project proposals for Title II funding provided by the Secure Rural Schools and Community Self-Determination Act of 2000.

All North Mt. Baker-Snoqualmie Resource Advisory Committee meetings are open to the public. Interested citizens are encouraged to attend.

The North Mt. Baker-Snoqualmie Resource Advisory Committee advises Whatcom and Skagit Counties on projects, reviews project proposals, and makes recommendations to the Forest Supervisor for projects to be funded by Title II dollars. The North Mt. Baker-Snoqualmie Resource Advisory Committee was established to carry out the requirements of the Secure Rural Schools and Community Self-Determination Act of 2000.

FOR FURTHER INFORMATION CONTACT: Direct questions regarding this meeting to Jon Vanderheyden, Designated Federal Official, USDA Forest Service, Mt. Baker-Snoqualmie National Forest, 810 Stated Route 20, Sedro Woolley, Washington 98284 (360-856-5700, Extension 201).

Dated: January 11, 2002.
Jon Vanderheyden,
Designated Federal Official.

[FR Doc. 02-1310 Filed 1-17-02; 8:45 am]

BILLING CODE 3410-11-M